DEPARTMENT OF HEALTH AND HUMAN SERVICES

National Institutes of Health

Center for Scientific Review; Amended Notice of Meeting

Notice is hereby given of a change in the meeting of the Imaging Guided Interventions and Surgery Study Section, October 13, 2022, 9:00 a.m. to October 14, 2022, 8:00 p.m., National Institutes of Health, Rockledge II, 6701 Rockledge Drive, Bethesda, MD 20892, which was published in the Federal Register on September 12, 2022, 87 FR 55826, Doc 2022-19603.

This meeting is being amended to change the SRO Contact from Yuanna Cheng to Heidi Friedman, Ph.D., Center for Scientific Review, National Institutes of Health, 6701 Rockledge Drive, Bethesda, MD 20892, (301) 379-5623. The meeting is closed to the public.

Dated: September 30, 2022.
Miguelina Perez,
Program Analyst, Office of Federal Advisory Committee Policy.

[FR Doc. 2022-21690 Filed 10-5-22; 8:45 am]

BILLING CODE 4140-01-P